DEPARTMENT OF THE TREASURY

Departmental Offices; Proposed Collection; Comment Request

ACTION: Notice and request for comments.

SUMMARY: The Department of the Treasury, as part of its continuing effort to reduce paperwork burdens, invites the general public and other Federal agencies to comment on an information collection that is due for renewed approval by the Office of Management and Budget. The Office of Program Services and the Market Room within the Department of the Treasury are soliciting comments concerning recordkeeping requirements associated with Reporting of International Capital and Foreign Currency Transactions and Positions—31 CFR part 128.

DATES: Written comments should be received on or before July 29, 2002 to be assured of consideration.

ADDRESSES: Direct all written comments on international capital transactions and positions to: Department of the Treasury, ATTN: Dwight Wolkow, IP Room 4410 NY, 1500 Pennsylvania Avenue NW., Washington DC 20220. In view of delays in mail delivery due to recent events, please also notify Mr. Wolkow by email (dwight.wolkow@do.treas.gov), FAX (202-622-1207) or telephone (202-622-1276).

Direct all written comments on foreign currency transactions and positions to: Department of the Treasury, ATTN: Lois Quinn, Room 2405, 1500 Pennsylvania Avenue NW., Washington DC 20220. In view of delays in mail delivery due to recent events, please also notify Ms. Quinn by email (lois.quinn@do.treas.gov), FAX (202-622-2021) or telephone (202-622-9122).

FOR FURTHER INFORMATION CONTACT: Requests for additional information on international capital transactions and positions should be directed to Mr. Wolkow. Requests for additional information on foreign currency transactions and positions should be directed to Ms. Quinn.

SUPPLEMENTARY INFORMATION: Title: 31 CFR part 128, Reporting of International Capital and Foreign Currency Transactions and Positions.

OMB Number: 1505-0149.

Abstract: 31 CFR part 128 establishes general guidelines for reporting on United States claims on and liabilities to foreigners; on transactions in securities with foreigners; and on the monetary reserves of the United States as provided for by the International Investment and Trade in Services Survey Act and the Bretton Woods Agreements Act. In addition, 31 CFR part 128 establishes general guidelines for reporting on the nature and source of foreign currency transactions of large U.S. business enterprises and their foreign affiliates. This regulation includes a recordkeeping requirement, § 128.5, which is necessary to enable the Office of Program Services and the Office of Foreign Exchange Operations to verify reported information and to secure additional information concerning reported information as may be necessary. The recordkeepers are U.S. persons required to file reports covered by these regulations.

Current Actions: No changes to recordkeeping requirements are proposed at this time.

Type of Review: Extension.

Affected Public: Business or other for-profit organizations.

Estimated Number of Respondents: 2,000.

Estimated Average Time per Respondent: 3 hours per respondent per filing.

Estimated Total Annual Burden Hours: 6,000 hours, based on one response per year.

Request for Comments

Comments submitted in response to this notice will be summarized and/or included in the request for Office of Management and Budget approval. All comments will become a matter of public record. The public is invited to submit written comments concerning: whether 31 CFR 128.5 is necessary for the proper performance of the functions of the Offices, including whether the information collected has practical uses; the accuracy of the above burden estimates; ways to enhance the quality, usefulness and clarity of the information to be collected; ways to minimize the reporting and/or recordkeeping burdens on respondents, including the use of information technologies to automate the collection of the data; and estimates of capital or start-up costs of operation, maintenance, and purchases of services to provide information.

Timothy D. Dulaney,
Director, Market Room.
Dwight Wolkow,
Administrator, International Portfolio Investment Data Systems.

[FR Doc. 02-13205 Filed 5-24-02; 8:45 am]

BILLING CODE 4810-25-P